DEPARTMENT OF DEFENSE

Office of the Secretary

[Transmittal No. 22-70]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives with attached Transmittal 22-70, Policy Justification, and Sensitivity of Technology.

Dated: August 16, 2024.
Aaron T. Siegel,
Alternate OSD Federal Register Liaison Officer, Department of Defense.

BILLING CODE 6001-FR-P

BILLING CODE 6001-FR-C

Transmittal No. 22-70

Notice of Proposed Issuance of Letter of Offer Pursuant to Section 36(b)(1) of the Arms Export Control Act, as amended

(i) Prospective Purchaser: Taipei Economic and Cultural Representative Office in the United States (TECRO)

(ii) Total Estimated Value:

Major Defense Equipment * | $ 0 million
Other | $180 million
TOTAL | $180 million

Funding Source: National Funds

(iii) Description and Quantity or Quantities of Articles or Services under Consideration for Purchase:

Major Defense Equipment (MDE):

None

Non-MDE:

Includes Volcano (vehicle-launched) anti-tank munition-laying systems; M977A4 HEMTT 10-Ton cargo trucks; M87A1 Anti-Tank (AT) munitions; M88 canister training munitions (practice dummy ammunition rounds); M89 training munitions (test ammunition rounds); organic U.S. Army Depot build of Volcano system permanently mounted on M977A4 HEMTT truck; logistics support packages to include spare parts, spare secondary assemblies, tool kits and test equipment; technical manuals; organic depot production, integration and testing; Operator and Maintenance Training; logistics and fielding support; USG technical assistance CONUS and OCONUS to include engineering services, program management, site surveys, facility, logistics and maintenance evaluations; quality assurance and de-processing team; field service representative(s); Repair and Return services; any transportation charges to execute the program; and related elements of logistical and program support.

(iv) Military Department: Army (TW-B-ZDV)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: December 28, 2022

* As defined in Section 47(6) of the Arms Export Control Act.

POLICY JUSTIFICATION

Taipei Economic and Cultural Representative Office in the United States—Volcano System

The Taipei Economic and Cultural Representative Office in the United States (TECRO) has requested to buy Volcano (vehicle-launched) anti-tank munition-laying systems; M977A4 HEMTT 10-Ton cargo trucks; M87A1 Anti-Tank (AT) munitions; M88 canister training munitions (practice dummy ammunition rounds); M89 training munitions (test ammunition rounds); organic U.S. Army Depot build of Volcano system permanently mounted on M977A4 HEMTT truck; logistics support packages to include spare parts, spare secondary assemblies, tool kits and test equipment; technical manuals; organic depot production, integration and testing; Operator and Maintenance Training; logistics and fielding support; USG technical assistance CONUS and OCONUS to include engineering services, program management, site surveys, facility, logistics and maintenance evaluations; quality assurance and de-processing team; field service representative(s); Repair and Return services; any transportation charges to execute the program; and related elements of logistical and program support. The estimated total cost is $180 million.

This proposed sale is consistent with U.S. law and policy as expressed in Public Law 96-8.

This proposed sale serves U.S. national, economic, and security interests by supporting the recipient's continuing efforts to modernize its armed forces and to maintain a credible defensive capability. The proposed sale will help improve the security of the recipient and assist in maintaining political stability, military balance, and economic progress in the region.

The proposed sale will improve the recipient's capability to meet current and future threats by providing a credible force capable of deterring adversaries and participating in regional operations. The recipient will have no difficulty absorbing this equipment into its armed forces.

The proposed sale of this equipment and support will not alter the basic military balance in the region.

The principal contractor(s) will be Northrup Grumman, West Falls Church, VA for production of munition canister mines; and Oshkosh Corporation, Oshkosh, WI for production of the M977A4 HEMTT vehicles. There are no known offset agreements proposed in connection with this potential sale.

Implementation of this proposed sale will require assignment of one (1) technical representative in country for an estimated two (2) years of support; and U.S. Government representatives and contractor personnel to travel OCONUS for a duration of up to five years to support equipment fielding/training and program management.

There will be no adverse impact on U.S. defense readiness as a result of this proposed sale.

Transmittal No. 22-70

Notice of Proposed Issuance of Letter of Offer Pursuant to Section 36(b)(1) of the Arms Export Control Act, as amended

Annex

Item No. vii

(vii) Sensitivity of Technology:

1. The M139 Volcano System: a mass scatterable mine delivery system that delivers mines by helicopter or ground vehicle. It enables tactical commanders to emplace antitank/antipersonnel (AT/AP) or pure AT minefields with a minimum of personnel. A soldier-selectable, self-destruct mechanism destroys the mine at the end of its active lifecycle—4 hours to 15 days—depending on the time selected. Using a ground vehicle, a 1,000-meter minefield can be laid in 4 to 12 minutes based on terrain and vehicle speed. A helicopter can complete the mission in 20 seconds. Advantages of this system include faster response, increased lethality, greater efficiency, and enhanced safety.

a. The Volcano ground system is capable of holding up to 160 canisters and can be launched from both sides of the vehicle. Each canister contains six (6) mines.

b. With the Presidential Landmine Policy in place, AP mines cannot be exported. An AT only canister (M87A1) was developed to meet the policy decision. Therefore, the mine ratio went from five (5) AT mines/one (1) AP mine TO: six (6) AT mines/0 AP mines.

c. Volcano has no sensitive technological information or restricted information contained in the equipment, major components, subsystems, software, technical data (performance, maintenance, R&M, etc.) documentation, training devices and services to be conveyed with the proposed sale. There are no classified Volcano components (major components or subsystems), software, technical data, documentation, training devices or services to be conveyed with the proposed sale.

2. The highest level of classification of defense articles, components, and services included in this potential sale is UNCLASSIFIED.

3. If a technologically advanced adversary obtains knowledge of the specific hardware and software elements, the information could be used to develop countermeasures or equivalent systems that might reduce weapon system effectiveness or be used in the development of a system with similar or advanced capabilities.

4. A determination has been made that the recipient can provide substantially the same degree of protection for the sensitive technology being released as the U.S. Government. This sale is necessary in furtherance of the U.S. foreign policy and national security objectives outlines in the Policy Justification.

5. All defense articles and services listed in this transmittal have been authorized for release and export to the recipient.

[FR Doc. 2024-19128 Filed 8-23-24; 8:45 am]

BILLING CODE 6001-FR-C